DEPARTMENT OF STATE

[Notice Number 3677]

Shipping Coordinating Committee; Notice of Meeting

The Shipping Coordinating will conduct an open meeting at 9 a.m. on Friday, September 7, 2001, in Room 6319, at U.S. Coast Guard Headquarters, 2100 Second Street, SW., Washington, DC 20593-0001. This meeting will discuss the upcoming 44TH Session of the Subcommittee on Stability and Load Lines and on Fishing Vessels Safety (SLF) and associated bodies of the International Maritime Organization (IMO) which will be held on September 17-21, 2001, at the IMO Headquarters in London, England.

Items of discussion will include the following:

a. Harmonization of damage stability provisions in the IMO instruments,

b. Revision of technical regulations of the 1966 International Load Line Convention,

c. Revisions to the Fishing Vessel Safety Code and Voluntary Guidelines,

d. Large Passenger Vessel Safety,

e. Matters relating to Bulk Carrier Safety, and

f. High Speed Craft Code amendments and model tests.

Members of the public may attend this meeting up to the seating capacity of the room. Interested persons may seek information by writing: Mr. Paul Cojeen, U.S. Coast Guard Headquarters, Commandant (G-MSE-2), Room 1308, 2100 Second Street, SW., Washington, DC 20593-0001 or by calling (202) 267-2988.

Dated: July 24, 2001.
Stephen Miller,
Executive Secretary, Shipping Coordinating Committee, U.S. Department of State.

[FR Doc. 01-19193 Filed 7-31-01; 8:45 am]

BILLING CODE 4710-07-P